DEPARTMENT OF STATE

22 CFR Part 171

[Public Notice: 9448]

RIN 1400-AD78

Privacy Act; STATE-75, Family Advocacy Case Records

AGENCY: Department of State.

ACTION: Final rule.

SUMMARY: The Department of State (the Department) finalizes its rule exempting portions of the Family Advocacy Case Records, State-75, from one or more provisions of the Privacy Act of 1974.

DATES: This rule is effective on February 23, 2016.

FOR FURTHER INFORMATION CONTACT: John Hackett, Director; Office of Information Programs and Services, A/GIS/IPS; Department of State, SA-2; 515 22nd Street NW., Washington, DC 20522-8001, or at Privacy@state.gov.

SUPPLEMENTARY INFORMATION: The Department maintains the Family Advocacy Case Records system of records. The primary purpose of this system of records is to be utilized at post by members of the Family Advocacy Team and in the Department of State by the Family Advocacy Committee. The information may be shared within the Department on a need to know basis and in medical clearance determinations for overseas assignment of covered employees and family members, as well as for making determinations involving curtailment, medical evacuation, suitability, and security clearance.

The Department published a notice of proposed rulemaking (NPRM) on September 9, 2015, (80 FR 54256) proposing to amend 22 CFR part 171 to exempt portions of this system of records from the following subsections of the Privacy Act pursuant to subsections (k)(1) and (k)(2):

• 5 U.S.C. 552a(c)(3) (requiring that an accounting of certain disclosures be made available to an individual upon request);

• 5 U.S.C. 552a(d) (establishing requirements related to an individual's right to access and request amendment to certain records);

• 5 U.S.C. 552a(e)(1) (providing that an agency that maintains a system of records shall “maintain in its records only such information about an individual as is relevant and necessary to accomplish a purpose of the agency required to be accomplished by statute or by executive order of the President”);

• 5 U.S.C. 552a(e)(4)(G) (requiring that an agency that maintains a system of records publish in the Federal Register “the agency procedures whereby an individual can be notified at his request if the system of records contains a record pertaining to him”);

• 5 U.S.C. 552a(e)(4)(H) (requiring that an agency that maintains a system of records publish in the Federal Register “the agency procedures whereby an individual can be notified at his request how he can gain access to any record pertaining to him contained in the system of records, and how he can contest its content”);

• 5 U.S.C. 552a(e)(4)(I) (requiring that an agency that maintains a system of records publish in the Federal Register “the categories of sources of records in the system”); and

• 5 U.S.C. 552a(f) (requiring that an agency that maintains a system of records promulgate certain regulations).

STATE-75 is exempted under subsection (k)(1) to the extent that records within that system are subject to the provisions of 5 U.S.C. 552(b)(1), which covers materials that: (i) Are specifically authorized under criteria established by an Executive order to be kept secret in the interest of national defense and foreign policy, and (ii) are in fact properly classified pursuant to such Executive order. STATE-75 is exempted under subsection (k)(2) to the extent that records within that system are comprised of investigatory material compiled for law enforcement purposes, subject to the limitations set forth in subsection (k)(2). The subsection (k)(2) exemption is intended to prevent individuals who are the subject of investigation from frustrating the investigatory process, facilitate the proper functioning and integrity of law enforcement activities, prevent disclosure of investigative techniques, maintain the confidence of foreign governments in the integrity of the procedures under which privileged or confidential information may be provided, fulfill commitments made to sources to protect their identities and the confidentiality of information, and avoid endangering sources and law enforcement personnel.

For additional background, see the NPRM published on September 9, 2015. (80 FR 54256) and the system of records notice published on January 5, 2009 (74 FR 330). The Department received no public comments on these documents.

List of Subjects in 22 CFR Part 171

Privacy.

For the reasons stated in the preamble, 22 CFR part 171 is amended as follows:

PART 171—[AMENDED]

1. The authority citation for part 171 continues to read as follows:

Authority: 5 U.S.C. 552, 552a; 22 U.S.C. 2651a; Pub. L. 95-521, 92 Stat. 1824, as amended; E.O. 13526, 75 FR 707; E.O. 12600, 52 FR 23781, 3 CFR, 1987 Comp., p. 235.

§ 171.36 [Amended]

2. Section 171.36 is amended by adding an entry, in alphabetical order, for “Family Advocacy Case Records, State-75” to the lists in paragraphs (b)(1) and (2)

Joyce A. Barr,
Assistant Secretary for Administration, U.S. Department of State.

[FR Doc. 2016-03630 Filed 2-22-16; 8:45 am]

BILLING CODE 4710-36-P